DEPARTMENT OF COMMERCE

National Oceanic and Atmospheric Administration

50 CFR Part 660

[I.D. 032702A]

Fisheries Off West Coast States and in the Western Pacific; Pacific Coast Groundfish Fishery; Application for an Exempted Fishing Permit

AGENCY: National Marine Fisheries Service (NMFS), National Oceanic and Atmospheric Administration (NOAA), Commerce.

ACTION: Notice of receipt of an application for an exempted fishing permit (EFP); request for comments.

SUMMARY: NMFS announces receipt of an application for an EFP from the Washington State Department of Fish and Wildlife (WSDFW). If awarded, the EFP would allow vessels with valid Washington state delivery permits that have historically fished for arrowtooth flounder to land certain federally managed groundfish species in excess of cumulative trip limits, providing the vessel carries a state-sponsored observer. Observers would collect total catch and effort data and retain specimens that are otherwise not available shoreside. This EFP proposal is intended to promote the objectives of the Pacific Coast Groundfish Fishery Management Plan (FMP) by providing much-needed data on total catch and incidental catch rates.

DATES: DATES: Comments must be received by April 30, 2002.

ADDRESSES: ADDRESSES: Copies of the EFP application are available from Becky Renko, Northwest Region, NMFS, 7600 Sand Point Way N.E., Bldg. 1, Seattle, WA 98115-0070.

FOR FURTHER INFORMATION CONTACT: Becky Renko, 206-526-6110.

SUPPLEMENTARY INFORMATION: This action is authorized by the FMP and implementing regulations at 50 CFR 600.745 and 50 CFR 660.350.

On February 20, 2002, NMFS received a completed EFP application from the WSDFW. The primary purpose of this exempted fishing activity would be to measure bycatch rates for canary and other rockfish species associated with fishing strategies currently used in the northern arrowtooth flounder fishery. The secondary purpose of the exempted fishing activity would be to measure bycatch rates for widow rockfish and other rockfish species associated with fishing strategies currently used in the mid-water yellowtail rockfish fishery. Fishing for arrowtooth flounder and yellowtail rockfish, which are abundant and commercially important species off Washington, is constrained by efforts to rebuild canary and widow rockfish, both overfished species. Fishers who have historically fished for these species believe that the fisheries can be prosecuted with much lower rockfish bycatch rates than are currently assumed. A similar EFP, that yielded useful data on the arrowtooth flounder fishery, was issued in 2001.

If issued, this EFP would allow approximately 7 vessels, which have historically participated in both the arrowtooth flounder and yellowtail rockfish fisheries, to retain and sell arrowtooth flounder, petrale sole, and yellowtail rockfish in excess of cumulative trip limits between May 1 and August 31, 2002. Other rockfish species, caught in excess of current trip limits and retained under the EFP, would be forfeited to the state. Fishing under the proposed EFP would be restricted to waters north of 46°40′ N. Lat.

The EFP would provide for a state-sponsored observer program under which observers would collect much-needed data to estimate incidental catch rates and total catch of various species and species groups and collect and retain specimens of otherwise prohibited fish caught by the vessel. Without an EFP, groundfish regulations at 50 CFR 660.306(f) would continue to restrict vessels from landing groundfish species or species groups in excess of trip limits.

Data collected during this project are expected to have a broad significance to the management of the groundfish fishery by providing much needed information on: (1) Total catch of rockfish in the northern flatfish and yellowtail rockfish fisheries; (2) catch rates of incidentally caught rockfish species, including canary rockfish and widow rockfish by fishing location; and (3) age structure data that are otherwise not available from landed catch. To the extent possible, data provided by the observers will be compatible with the data collected by the NMFS coastwide observer program. The information gathered through this EFP may lead to future rulemaking.

At the Pacific Fishery Management Council's (Council) November 2001, meeting in Burlingame, CA., the applicants appeared in support of the application. The Council considered the EFP application and recommended that NMFS issue the EFP for the proposed activity. A copy of the application is available for review from NMFS (see ADDRESSES).

Authority: 16 U.S.C. 1801 et seq.

Dated: April 3, 2002.
Bruce C. Morehead,
Acting Director, Office of Sustainable Fisheries, National Marine Fisheries Service.

[FR Doc. 02-8690 Filed 4-9-02; 8:45 am]

BILLING CODE 3510-22-S